DEPARTMENT OF HEALTH AND HUMAN SERVICES

Administration for Children and Families

Proposed Information Collection Activity; Comment Request

Proposed Projects:

Title: Title IV-E Foster Care Eligibility Review and Child and Family Service Reviews; Final Rule.

OMB No.: 0970-0214.

Description: The following five separate activities are associated with this information collection: Foster Care Eligibility Review (foster care review) Program Improvement Plan; Child and Family Services Reviews (CFSR) State agency Statewide Assessment; CFSR On-site Review; CFSR Program Improvement Plan; and Anti-Discrimination Enforcement Corrective Action Plan. The collection of information for review of federal payments to states for foster care maintenance payments (45 CFR 1356.71(i)) is authorized by title IV-E of the Social Security Act (the Act), section 474 [42 U.S.C. 674]. The foster care review systematically checks title IV-E agency compliance in meeting title IV-E eligibility requirements; validates the accuracy of the agency's claims for reimbursement of title IV-E payment made on behalf of children in foster care; and identifies and recovers improper payments. The collection of information for review of state child and family services programs (45 CFR 1355.33(b), 1355.33(c) and 1355.35(a)) is to determine whether such programs are in substantial conformity with state plan requirements under parts B and E of the Act and is authorized by section 1123(a) [42 U.S.C. 1320a-1a] of the Act. The CFSR looks at the outcomes related to safety, permanency and well-being of children served by the child welfare system and at seven systemic factors that support the outcomes. Section 474(d) of the Act [42 U.S.C. 674] deploys enforcement provisions (45 CFR 1355.38(b) and (c)) for the requirements at section 4371(a)(18) [42 U.S.C. 671], which prohibit the delay or denial of foster and adoptive placements based on the race, color, or national origin of any of the individuals involved. The enforcement provisions include the execution and completion of corrective action plans when a state is in violation of section 471(a)(18) of the Act. The information collection is needed: (1) To ensure compliance with title IV-E foster care eligibility requirements; (2) to monitor state plan requirements under titles IV-B and IV-E of the Act, as required by federal statute; and (3) to enforce the title IV-E anti-discrimination requirements through state corrective action plans. The resultant information will allow ACF to determine if states are in compliance with state plan requirements and are achieving desired outcomes for children and families, help ensure that claims by states for title IV-E funds are made only on behalf of title IV-E eligible children, and require states to revise applicable statutes, rules, policies and procedures, and provide proper training to staff, through the development and implementation of corrective action plans. These reviews not only address compliance with eligibility requirements but also assist states in enhancing the capacities to serve children and families. In computing the number of burden hours for this information collection, ACF based the annual burden estimates on ACF's and states' experiences in conducting reviews and developing program improvement plans.

Respondents: State Title IV-B and Title IV-E Agencies.

Annual Burden Estimates
Instrument | Number of respondents | Number of responses per respondent | Average burden hours per response | Total burden hours
45 CFR 1356.7 (i) Program Improvement Plan (IV-E review) | 1 | 1 | 120 | 120
45 CFR 1366.33 (b) Statewide Assessment (CFSR) | 14 | 1 | 120 | 1680
45 CFR 1355.33 (c) On-site Review (CFSR) | 14 | 1 | 1,186 | 16,604
45 CFR 1355.35 (a) Program Improvement Plan (CFSR) | 14 | 1 | 300 | 4,200
45 CFR 1355.38 (b) and (c) Corrective Action | 1 | 1 | 780 | 780
Estimated Total Annual Burden Hours |  |  |  | 23,384

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden information to be collected; and (d) ways to minimize the burden of the collection of information on respondents, including through the use of automated collection techniques or other forms of information technology. Consideration will be given to comments and suggestions submitted within 60 days of this publication.

Robert Sargis,
Reports Clearance Officer.

[FR Doc. 2017-10631 Filed 5-23-17; 8:45 am]

BILLING CODE 4184-01-P